DEPARTMENT OF STATE

[Public Notice: 9549]

Notice of Availability of the Draft Environmental Assessment and Preliminary Finding of No Significant Impact for the NuStar Burgos Pipelines Presidential Permit Applications Review, Hidalgo County, Texas

AGENCY: Department of State.

ACTION: Notice of availability, solicitation of comments.

SUMMARY: The U.S. Department of State (Department) announces availability for public review and comment of the Draft Environmental Assessment (Draft EA) and the Preliminary Finding of No Significant Impact for the NuStar Burgos Pipelines Presidential Permit Applications Review (Preliminary FONSI). These documents evaluate the potential environmental impacts of issuing Presidential Permits to NuStar Logistics, L.P. (NuStar) to authorize in Hidalgo County, Texas: The construction, connection, operation, and maintenance of a proposed new NuStar Burgos pipeline (New Burgos Pipeline); a proposed change in petroleum products for an existing Burgos pipeline (Existing Burgos Pipeline), for which a Presidential Permit was issued in 2006; and a name change of the owner and operator of the Existing Burgos Pipeline. The Draft EA and Preliminary FONSI were prepared consistent with the National Environmental Policy Act (NEPA) of 1969 (42 U.S.C. Sec. 4321, et seq.), the regulations of the Council on Environmental Quality (CEQ) (40 CFR 1500-1508), and the Department's implementing regulations (22 CFR part 161).

DATES: The Department invites the public, governmental agencies, tribal governments, and all other interested parties to provide comments on the Draft EA and Preliminary FONSI during the 30-day public comment period. The public comment period starts on May 9, 2016, with the publication of this Federal Register Notice and will end June 8, 2016.

All comments received during the review period may be made public, no matter how initially submitted. Comments are not private and will not be edited to remove identifying or contact information. Commenters are cautioned against including any information that they would not want publicly disclosed. Any party soliciting or aggregating comments from other persons is further requested to direct those persons not to include any identifying or contact information, or information they would not want publicly disclosed, in their comments.

ADDRESSES: Comments on the Draft EA and Preliminary FONSI may be submitted at www.regulations.gov by entering the title of this Notice into the search field and following the prompts. Comments may also be submitted by mail, addressed to: Burgos Project Manager, Office of Environmental Quality and Transboundary Issues (OES/EQT): Suite 2726, U.S. Department of State, 2201 C Street NW., Washington, DC 20520. All comments from agencies or organizations should indicate a contact person for the agency or organization.

FOR FURTHER INFORMATION CONTACT: Project details for the Burgos Pipelines and copies of the Presidential Permit applications, as well as information on the Presidential Permit process are available at the following: http://www.state.gov/e/enr/applicant/applicants/c66757.htm. Please refer to this Web site or contact the Department at the address listed in the ADDRESSES section of this notice.

SUPPLEMENTARY INFORMATION: The Department evaluates Presidential permit applications under E.O. 13337 and E.O. 14432. E.O. 13337 delegates to the Secretary of State the President's authority to receive applications for permits for the construction, connection, operation, or maintenance of facilities for the exportation or importation of petroleum, petroleum products, coal, or other fuels (except for natural gas), at the borders of the United States, and to issue or deny such Presidential Permits upon a national interest determination.

In December 2014, NuStar submitted two applications to the Department. The first application requests a new Presidential Permit to replace a 2006 Presidential Permit, that would: (1) Reflect NuStar's name change from Valero Logistics Operations, L.P. to NuStar Logistics, L.P. as the owner and operator of the Existing Burgos Pipeline, the 34-mile-long 8-inch outer diameter pipeline and border facilities issued a Presidential Permit in 2006 authorizing import and export of light naphtha and (2) allow the Existing Burgos Pipeline and border facilities to transport a broader range of petroleum products than originally authorized, including diesel, gasoline, jet fuel, liquefied petroleum gas, and natural gas liquids. The second application requests that the Department issue a Presidential Permit for construction, connection, operation, and maintenance of a new 10-inch outer diameter pipeline and associated facilities in the same right of way as the Existing Burgos Pipeline to transport the same range of products as the Existing Burgos Pipeline. Both pipelines would connect the Petroleos Mexicanos (PEMEX) Burgos Gas Plant near Reynosa, Tamaulipas, Mexico and the NuStar terminal near Edinburg, Texas in Hidalgo County, Texas at the United States-Mexico border.

Availability of the Draft EA and Preliminary FONSI: Copies of the Draft EA and Preliminary FONSI have been distributed to state and governmental agencies, tribal governments and other interested parties. Printed copies of the document may be obtained by visiting the McAllen Public Library, 4001 N. 23rd St., McAllen, TX 78504, or by contacting the Burgos Project Manager at the above address. They are also available at http://www.state.gov/e/enr/applicant/applicants/c66757.htm.

Deborah Klepp,
Director, Office of Environmental Quality and Transboundary Issues, Department of State.

[FR Doc. 2016-10841 Filed 5-6-16; 8:45 am]

BILLING CODE 4710-09-P